DEPARTMENT OF COMMERCE

International Trade Administration

[A-201-838]

Seamless Refined Copper Pipe and Tube From Mexico: Final Results of Antidumping Duty Administrative Review; 2012-2013

AGENCY: Enforcement and Compliance, International Trade Administration, Department of Commerce.

SUMMARY: On December 9, 2014, the Department of Commerce (the Department) published in the Federal Register the Preliminary Results of the 2012-2013 administrative review of the antidumping duty order on seamless refined copper tube and pipe from Mexico.¹ This review covers two producers/exporters of the subject merchandise, GD Affiliates S. de R.L. de C.V. (Golden Dragon) ² and Nacional de Cobre, S.A. de C.V. (Nacobre). We gave interested parties an opportunity to comment on the Preliminary Results and, based upon our analysis of the comments received, we continue to find that sales of subject merchandise have been made at prices below normal value.

¹ See Seamless Refined Copper Pipe and Tube From Mexico: Preliminary Results of Antidumping Duty Administrative Review; 2012-2013, 79 FR 73028 (December 9, 2014), and accompanying Preliminary Decision Memorandum (Preliminary Results).

² The Department has previously treated GD Affiliates S. de R.L. de C.V. as part of a single entity including: (1) GD Copper Cooperatief U.A.; (2) Hong Kong GD Trading Co. Ltd.; (3) Golden Dragon Holding (Hong Kong) International, Ltd.; (4) GD Copper U.S.A. Inc.; (5) GD Affiliates Servicios S. de R.L. de C.V.; and (6) GD Affiliates S. de R.L. de C.V., which is collectively referred to as Golden Dragon. See, e.g., Seamless Refined Copper Pipe and Tube From Mexico: Final Results of Antidumping Duty Administrative Review; 2011-2012, 79 FR 36719 (June 30, 2014), and accompanying Issues and Decision Memorandum.

DATES: Effective date: June 12, 2015.

FOR FURTHER INFORMATION CONTACT: Elizabeth Eastwood or Dennis McClure, AD/CVD Operations, Office II, Enforcement and Compliance, International Trade Administration, U.S. Department of Commerce, 14th Street and Constitution Avenue NW., Washington, DC 20230; telephone: (202) 482-3874 or (202) 482-5973, respectively.

SUPPLEMENTARY INFORMATION:

Background

On December 9, 2014, the Department published in the Federal Register the Preliminary Results of the 2012-2013 administrative review of the antidumping duty order on seamless refined copper pipe and tube from Mexico. We invited parties to comment on the Preliminary Results.

From December 15 through 19, 2014, we conducted a verification of the cost data reported by Golden Dragon.

On January 29, 2015, we received case briefs from Golden Dragon, Nacobre ³, and the petitioners.

³ Nacobre withdrew its case brief on February 3, 2015.

On March 23, 2015, we postponed the final results by 60 days, until June 8, 2015.⁴

⁴ See memorandum to Christian Marsh, Deputy Assistant Secretary for Enforcement and Compliance, from Dennis McClure, Senior Analyst, Office II, Antidumping and Countervailing Duty Operations, entitled “Seamless Refined Copper Pipe and Tube from Mexico: Extension of Deadline for Final Results of Antidumping Duty Administrative Review; 2012-2013,” dated March 24, 2015.

Scope of the Order

The merchandise subject to the order ⁵ is seamless refined copper pipe and tube. The product is currently classified under the Harmonized Tariff Schedule of the United States (HTSUS) subheadings 7407.10.1500, 7419.99.5050, 8415.90.8065, and 8415.90.8085. Although the HTSUS numbers are provided for convenience and customs purposes, the written product description, available in the Issues and Decision Memorandum,⁶ remains dispositive.

⁵ See Seamless Refined Copper Pipe and Tube From Mexico and the People's Republic of China: Antidumping Duty Orders and Amended Final Determination of Sales at Less Than Fair Value From Mexico, 75 FR 71070 (November 22, 2010) (Amended Final and Order).

⁶ See Memorandum to Ronald K. Lorentzen, Acting Assistant Secretary for Enforcement and Compliance, from Christian Marsh, Deputy Assistant Secretary for Antidumping and Countervailing Duty Operations, entitled “Issues and Decision Memorandum for the Final Results of the Antidumping Duty Administrative Review of Seamless Refined Copper Pipe and Tube from Mexico; 2012-2013,” issued concurrently with and hereby adopted by this notice (Issues and Decision Memorandum).

Analysis of Comments Received

All issues raised in the case and rebuttal briefs by Golden Dragon and the petitioners are listed in the Appendix to this notice and addressed in the Issues and Decision Memorandum. Parties can find a complete discussion of these issues and the corresponding recommendations in this public memorandum, which is on file electronically via Enforcement and Compliance's Antidumping and Countervailing Duty Centralized Electronic Service System (ACCESS). ACCESS is available to registered users at http://access.trade.gov; the Issues and Decision Memorandum is also available to all parties in the Central Records Unit, room 7046, of the main Department of Commerce building. In addition, a complete version of the Issues and Decision Memorandum can be accessed directly at http://enforcement.trade.gov/frn/index.html. The signed Issues and Decision Memorandum and the electronic version of the Issues and Decision Memorandum are identical in content.

Changes Since the Preliminary Results

Based on the comments received from interested parties regarding our Preliminary Results, we revised our preliminary margin calculations for Golden Dragon. These changes are listed in the Issues and Decision Memorandum. We made no changes to the calculation of Nacobre's weighted-average dumping margin in these final results.

Period of Review

The period of review (POR) is November 1, 2012, through October 31, 2013.

Final Results of the Review

Producer/exporter | Weighted- average dumping margin (percent)
GD Affiliates S. de R.L. de C.V | 0.00
Nacional de Cobre, S.A. de C.V | 0.00

Disclosure

We intend to disclose the calculations performed for Golden Dragon within five days of the date of publication of this notice to parties in this proceeding in accordance with 19 CFR 351.224(b). Because the Nacobre calculations did not change, there is nothing to disclose.

Assessment Rates

The Department shall determine, and CBP shall assess, antidumping duties on all appropriate entries.

Pursuant to the Final Modification for Reviews,⁷ because the weighted-average dumping margins for Golden Dragon and Nacobre are zero, we will instruct CBP to liquidate the appropriate entries without regard to antidumping duties.⁸

⁷ See Antidumping Proceedings: Calculation of the Weighted-Average Dumping Margin and Assessment Rate in Certain Antidumping Duty Proceedings; Final Modification, 77 FR 8101 (February 14, 2012) (Final Modification for Reviews).

⁸ Id. at 8102.

The Department intends to issue assessment instructions to CBP 41 days after the date of publication of these final results of review, pursuant to 19 CFR 356.8(a).

Cash Deposit Requirements

The following deposit requirements will be effective upon publication of the notice of these final results for all shipments of seamless refined copper pipe and tube from Mexico entered, or withdrawn from warehouse, for consumption on or after the publication date as provided by section 751(a)(2) of the Act: (1) The cash deposit rates for Golden Dragon and Nacobre will be equal to the weighted-average dumping margins established in the final results of this administrative review; (2) for merchandise exported by manufacturers or exporters not covered in this review but covered in a completed prior segment of the proceeding, the cash deposit rate will continue to be the company-specific rate published for the most recently completed segment; (3) if the exporter is not a firm covered in this review, a prior review, or the original investigation but the manufacturer is, the cash deposit rate will be the rate established for the most recently completed segment for the manufacturer of the merchandise; (4) the cash deposit rate for all other manufacturers or exporters will continue to be 26.03 percent, the all-others rate established in the Amended Final and Order. These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Administrative Protective Order

In accordance with 19 CFR 351.305(a)(3), this notice also serves as a reminder to parties subject to administrative protective order (APO) of their responsibility concerning the return or destruction of proprietary information disclosed under the APO, which continues to govern business proprietary information in this segment of the proceeding. Timely written notification of the return or destruction of APO materials or conversion to judicial protective order is hereby requested. Failure to comply with the regulations and terms of an APO is a violation subject to sanction.

Notification to Interested Parties

We are issuing and publishing this notice in accordance with sections 751(a)(1) and 777(i) of the Act and 19 CFR 351.213(h).

Dated: June 5, 2015.
Ronald K. Lorentzen,
Acting Assistant Secretary for Enforcement and Compliance.

Appendix—List of Topics Discussed in the Issues and Decision Memorandum

Summary

Background

Margin Calculations

Scope of the Order

Discussion of the Issues

Comment 1: Date of Sale for Consignment Sales

Comment 2: Imputed Credit Expense for Consignment Sales

Comment 3: Reporting of Costs Related to Global Operations

Comment 4: Use of Updated Cost Database

Recommendation

[FR Doc. 2015-14451 Filed 6-11-15; 8:45 am]

BILLING CODE 3510-DS-P